DEPARTMENT OF TRANSPORTATION

Federal Aviation Administration

14 CFR Part 39

[Docket No. FAA-2011-0475; Directorate Identifier 2010-NM-199-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 757-200, -200PF, -200CB, and -300 series airplanes. The NPRM proposed to require, for certain airplanes, installing new relays adjacent to two of the spoiler control modules. For certain other airplanes, the NPRM proposed to require torquing the bracket assembly installation nuts and ground stud nuts, and doing bond resistance tests between the bracket assemblies and the terminal lugs on the ground studs. The NPRM was prompted by numerous reports of unintended lateral oscillations during final approach, just before landing. This action revises the NPRM by adding actions that are necessary to address the identified unsafe condition. We are proposing this supplemental NPRM (SNPRM) to reduce the chance of unintended lateral oscillations near touchdown, which could result in loss of lateral control of the airplane, and consequent airplane damage or injury to flight crew and passengers. Since these actions impose an additional burden over that proposed in the NPRM, we are reopening the comment period to allow the public the chance to comment on these proposed changes.

DATES: We must receive comments on this SNPRM by August 15, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2011-0475; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Marie Hogestad, Aerospace Engineer, Systems and Equipment Branch, ANM-130S, Seattle Aircraft Certification Office (ACO), FAA, 1601 Lind Avenue SW., Renton, WA 98057-3356; phone: 425-917-6418; fax: 425-917-6590; email: marie.hogestad@faa.gov.

SUPPLEMENTARY INFORMATION:

Comments Invited

We invite you to send any written relevant data, views, or arguments about this proposed AD. Send your comments to an address listed under the ADDRESSES section. Include “Docket No. FAA-2011-0475; Directorate Identifier 2010-NM-199-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to certain The Boeing Company Model 757-200, -200PF, -200CB, and -300 series airplanes. The NPRM published in the Federal Register on May 24, 2011 (76 FR 30043). The NPRM proposed to require, for certain airplanes, installing new relays adjacent to two of the spoiler control modules that would prevent the deployment of certain spoiler pairs when landing flaps are selected. For certain other airplanes, the NPRM proposed to require torquing the bracket assembly installation nuts and ground stud nuts, and doing bond resistance tests between the bracket assemblies and the terminal lugs on the ground studs.

Actions Since Previous NPRM Was Issued

Since we issued the NPRM, we have determined that additional actions are necessary to address the identified unsafe condition. The actions include installing three new relays on the opposite side of the same relay bracket assembly; and for certain airplanes, doing an additional inspection to ensure that the three new relays do not contact adjacent wire bundles, and related investigative and corrective actions if necessary.

Comments

We gave the public the opportunity to comment on the NPRM (76 FR 30043, May 24, 2011). The following presents the comments received on the NPRM (76 FR 30043, May 24, 2011) and the FAA's response to each comment.

Support for the NPRM (76 FR 30043, May 24, 2011)

The Airline Pilots Association, International (ALPA) stated that it supports the intent of the NPRM (76 FR 30043, May 24, 2011).

Request To Withdraw the NPRM (76 FR 30043, May 24, 2011)

FedEx requested that we withdraw the NPRM (76 FR 30043, May 24, 2011). FedEx stated that since implementation of AD 2006-23-15, Amendment 39-14827 (71 FR 66657, November 16, 2006), there have been no reports of lateral pilot-induced oscillation (PIO) or unintended lateral oscillations during landing from the operators of Model 757 airplanes. (AD 2006-23-15 requires, among other actions, installing a control wheel damper assembly and vortex generators (vortilons) on the leading edge of the outboard main flap.) FedEx also stated that the proposed modifications to the lateral control system are very costly, do not improve the lateral handling characteristics, and will make the airplane less responsive and less maneuverable in the landing environment, resulting in the potential for an unsafe condition.

We disagree with the request to withdraw the NPRM (76 FR 30043, May 24, 2011). AD 2006-23-15, Amendment 39-14827 (71 FR 66657, November 16, 2006), is considered interim action. The manufacturer has identified an additional modification that is needed to correct the unsafe condition identified in AD 2006-23-15. This design change was made to reduce the lateral power to take out excessive airplane roll authority during landing operations. This is done by making the airplane lateral response to control wheel inputs more linear. It should be noted that this will make Model 757 handling characteristics more consistent with those of the other Boeing airplane models during landing operations. Also, even though there have only been 12 reports of unintended lateral oscillations near touchdown, there could have been other events that have been unrecognized and/or unreported. We have determined that it is necessary to proceed with this AD action.

Request To Shorten Compliance Time

ALPA requested the compliance time be shortened from the 60 months proposed in the NPRM (76 FR 30043, May 24, 2011). ALPA stated that a shortened compliance time is justified given the serious consequences of unintended roll oscillations near the ground.

We disagree with the request to shorten the compliance time. In developing the compliance time for this AD action, we considered not only the safety implications of the identified unsafe condition, but also the average utilization rate of the affected fleet, the practical aspects of an orderly modification of the fleet, the availability of required parts, and the time necessary for the rulemaking process. The 60-month compliance time following the effective date of the final rule was determined to be appropriate given the interim actions that have already been mandated by AD 2006-23-15, Amendment 39-14827 (71 FR 66657, November 16, 2006). We have not changed the SNPRM in this regard.

Request To Use Revised Service Bulletin

American Airlines requested that we delay release of the final rule until after release of Boeing Service Bulletin 757-27A0152, Revision 2, so it can be incorporated into the AD. American Airlines stated that the pending Revision 2 of this service bulletin was expected to address many of the concerns it had regarding the NPRM (76 FR 30043, May 24, 2011) and Boeing Alert Service Bulletin 757-27A0152, Revision 1, dated June 30, 2010. American Airlines outlined its concerns in its comments.

We have revised this SNPRM to refer to Boeing Service Bulletin 757-27A0152, Revision 3, dated October 28, 2013, as operators need to have comprehensive, clear, and concise instructions to accomplish the requirements of this AD.

Also, we reviewed Boeing Service Bulletin 757-27A0152, Revision 2, dated May 25, 2012; and Revision 3, dated October 28, 2013. Revision 2 was issued to add procedures for installing three new relays on the opposite side of the same relay bracket assembly to improve wire routing and maintenance access to the relays, and to prevent wire chafing on adjacent wire bundles. For certain airplanes, a general visual inspection was added to ensure the three new relays do not contact adjacent wire bundles and, if necessary, related investigative and corrective actions.

Boeing Service Bulletin 757-27A0152, Revision 3, dated October 28, 2013, was subsequently issued to make further improvements and corrections to illustrations.

We have changed the service information references in paragraphs (c) and (g) of this SNPRM to Boeing Service Bulletin 757-27A0152, Revision 3, dated October 28, 2013; and added new paragraph (h) to this SNPRM to provide credit for the actions required by paragraph (g) of this SNPRM, if those actions were performed before the effective date of this AD using Boeing Service Bulletin 757-27A0152, Revision 2, dated May 25, 2012.

Request To Clarify the Terms “Refer to” and “In Accordance With”

UPS asked if we agree with the terms “refer to” and “in accordance with” as defined in Boeing Alert Service Bulletin 757-27A0152, Revision 1, dated June 30, 2010.

We agree with the definition of the terms “refer to” and “in accordance with” as specified in Boeing Alert Service Bulletin 757-27A0152, Revision 1, dated June 30, 2010; Boeing Service Bulletin 757-27A0152, Revision 2, dated May 25, 2012; and Boeing Service Bulletin 757-27A0152, Revision 3, dated October 28, 2013. When the words “refer to” are used and the operator has an accepted alternative procedure, the accepted alternative procedure may be used. When the words “in accordance with” are included in the instruction, the procedure specified must be used. No change to the SNPRM is needed.

Request To Change Wording

Boeing requested that we revise the SUMMARY and Discussion sections and paragraph (e) of the NPRM (76 FR 30043, May 24, 2011) to change “numerous” to “several” when describing the number of reports of unintended lateral oscillations during final approach. Boeing stated that this wording change would make the wording in the NPRM consistent with that used in AD 2006-23-15, Amendment 39-14827 (71 FR 66657, November 16, 2006), which also addresses the issue of unintended lateral oscillations near touchdown for Model 757 airplanes.

We disagree to change the wording. Although the wording is not consistent with AD 2006-23-15, Amendment 39-14827 (71 FR 66657, November 16, 2006), it is accurate because there have been 12 confirmed PIO events in Model 757 history. And there were three other events for which a PIO was suspected, but without time history data, they could not be confirmed. We have not changed the SNPRM in this regard.

Request To Allow Use of New Parts

American Airlines requested that we revise the NPRM (76 FR 30043, May 24, 2011) to authorize, without mandating, installation of new parts in place of lost or damaged hardware. American Airlines stated that it finds several areas in which Boeing Alert Service Bulletin 757-27A0152, Revision 1, dated June 30, 2010, states to “Install (Kept)” parts. American Airlines stated that no authority is given to replace the kept parts with new parts of the same part number and that, during the course of the modification, parts may become damaged or lost, therefore rendering the kept hardware unserviceable or unavailable for installation.

We agree with the commenter's request. As stated previously, we have changed this SNPRM to refer to Boeing Service Bulletin 757-27A0152, Revision 3, dated October 28, 2013, as the appropriate source of service information. Note 11 of paragraph 3.A. (General Information) of the Accomplishment Instructions of Boeing Service Bulletin 757-27A0152, Revision 3, dated October 28, 2013, states that, where the work instructions include installation of a kept part, a new or serviceable part with the same part number can be installed as an alternative to the kept part.

Request To Evaluate Lateral Control Landing Characteristics

ALPA requested that we evaluate whether the maximum demonstrated crosswind characteristics are affected by the lateral control modifications proposed by the NPRM (76 FR 30043, May 24, 2011). FedEx stated that the current simulator data are based on the original Boeing flight test data, which will not accurately represent the lateral control characteristics if modified by the proposed AD.

We have determined that, at the most conservative crosswind case of a trim on approach in the maximum demonstrated crosswind (30 knots) with zero degree crab angle, the additional wheel required to trim is small (six degrees or less); and that the total magnitude of the lateral control required to trim is not limiting. The manufacturer has stated that it has no plans to make any updates to the airplane flight manual, nor a plan to release an updated simulator data package regarding crosswind characteristics. We have not changed the SNPRM in this regard.

Request for Clarification of Spoiler/Speedbrake Test

UPS requested clarification of the spoiler/speedbrake control system operational test. UPS stated that Boeing Alert Service Bulletin 757-27A0152, Revision 1, dated June 30, 2010, referenced in the NPRM (76 FR 30043, May 24, 2011), does not provide an aircraft maintenance manual (AMM) reference for the test.

We agree to provide clarification. No reference to the AMM is needed, because the spoiler/speedbrake control system operational test is included in the Accomplishment Instructions of Boeing Service Bulletin 757-27A0152, Revision 3, dated October 28, 2013; in a separate section titled “Operational test of the spoiler/speedbrake control system.” We have not changed the SNPRM in this regard.

FAA's Determination

We are proposing this SNPRM because we evaluated all the relevant information and determined the unsafe condition described previously is likely to exist or develop in other products of the same type design. Certain changes described above expand the scope of the NPRM (76 FR 30043, May 24, 2011). As a result, we have determined that it is necessary to reopen the comment period to provide additional opportunity for the public to comment on this SNPRM.

Proposed Requirements of This SNPRM

This SNPRM would require accomplishing the actions specified in Boeing Service Bulletin 757-27A0152, Revision 3, dated October 28, 2013.

The phrase “related investigative actions” is used in this proposed AD. “Related investigative actions” are follow-on actions that (1) are related to the primary actions, and (2) further investigate the nature of any condition found. Related investigative actions in an AD could include, for example, inspections.

The phrase “corrective actions” is used in this proposed AD. “Corrective actions” correct or address any condition found. Corrective actions in an AD could include, for example, repairs.

Costs of Compliance

We estimate that this will affect 676 airplanes of U.S. registry.

We estimate the following costs to comply with this proposed AD:

Estimated Costs
Action | Labor cost | Parts cost | Cost per product | Cost on U.S. operators
Installation Group 1, Configuration 1 (48 airplanes) | 36 work-hours × $85 per hour = $3,060 | $4,691 | $7,751 | $372,048
Installation Group 2, Configuration 1 (588 airplanes) | 33 work-hours × $85 per hour = $2,805 | 4,610 | 7,415 | 4,360,020
Installation Group 3, Configuration 1 (12 airplanes) | 33 work-hours × 85 per hour = $2,805 | 4,619 | 7,424 | 89,088
Installation Group 4, Configuration 1 (24 airplanes) | 33 work-hours × $85 per hour = $2,805 | 4,610 | 7,415 | 177,960
Installation Group 5, Configuration 1 (4 airplanes) | 36 work-hours × $85 per hour = $3,060 | 4,701 | 7,761 | 31,044
Torque Bracket Assembly and Bond Tests Groups 1-5, Configuration 2 | 12 work-hours × $85 per hour = $1,020 | 0 | 1,020 | 689,520
General Visual Inspection Groups 1-5, Configuration 3 | 7 work-hours × $85 per hour = $595 | 0 | 595 | 402,220

We estimate the following costs to do any necessary repairs that would be required based on the results of the proposed inspection. We have no way of determining the number of aircraft that might need these repairs:

On-Condition Costs
Action | Labor cost | Parts cost | Cost per product
Adjust Wire Bundle and Install Sleeve, Group 1-5, Configuration 1 | 1 work-hour × $85 per hour = $85 | $0 | $85
Inspection, Repair, and Installation Change, Group 1-5, Configuration 2 | 1 work-hour × $85 per hour = $85 | 0 | 85
Inspection, Repair, Installation Change, and Test, Group 1-5, Configuration 3 | 5 work-hours × $85 per hour = $425 | 0 | 425

We have received no definitive data that would enable us to provide cost estimates for the on-condition parts specified in this SNPRM.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0475; Directorate Identifier 2010-NM-199-AD.

(a) Comments Due Date

We must receive comments by August 15, 2014.

(b) Affected ADs

None.

(c) Applicability

This AD applies to The Boeing Company Model 757-200, -200PF, -200CB, and -300 series airplanes, certificated in any category, as identified in Boeing Service Bulletin 757-27A0152, Revision 3, dated October 28, 2013.

(d) Subject

Air Transport Association (ATA) of America Code 27, Flight Controls.

(e) Unsafe Condition

This AD was prompted by numerous reports of unintended lateral oscillations during the final approach, just before landing. We are issuing this AD to reduce the chance of unintended lateral oscillations near touchdown, which could result in loss of lateral control of the airplane, and consequent airplane damage or injury to flight crew and passengers.

(f) Compliance

Comply with this AD within the compliance times specified, unless already done.

(g) Installation and Inspection

Within 60 months after the effective date of this AD, do the applicable actions specified in paragraphs (g)(1), (g)(2), and (g)(3) of this AD.

(1) For Configuration 1 airplanes as defined in Boeing Service Bulletin 757-27A0152, Revision 3, dated October 28, 2013: Install three bracket assemblies and three new relays, and make changes to the wire bundles, in accordance with the Accomplishment Instructions of Boeing Service Bulletin 757-27A0152, Revision 3, dated October 28, 2013.

(2) For Configuration 2 airplanes as defined in Boeing Service Bulletin 757-27A0152, Revision 3, dated October 28, 2013: Torque the bracket assembly nuts and ground stud nuts, do bond resistance tests to verify that bonding requirements are met, do a general visual inspection to ensure that the three new relays do not touch the adjacent wire bundles, and do all applicable related investigative and corrective actions, in accordance with the Accomplishment Instructions of Boeing Service Bulletin 757-27A0152, Revision 3, dated October 28, 2013. Do all applicable related investigative and corrective actions before further flight.

(3) For Configuration 3 airplanes as defined in Boeing Service Bulletin 757-27A0152, Revision 3, dated October 28, 2013: Do a general visual inspection to ensure that the three new relays do not touch the adjacent wire bundles, and do all applicable related investigative and corrective actions, in accordance with the Accomplishment Instructions of Boeing Service Bulletin 757-27A0152, Revision 3, dated October 28, 2013. Do all applicable related investigative and corrective actions before further flight.

(h) Credit for Previous Actions

This paragraph provides credit for actions required by paragraph (g) of this AD, if those actions were performed before the effective date of this AD using Boeing Service Bulletin 757-27A0152, Revision 2, dated May 25, 2012.

(i) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(2) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane and the approval must specifically refer to this AD.

(j) Related Information

(1) For more information about this AD, contact Marie Hogestad, Aerospace Engineer, Systems and Equipment Branch, ANM-130S, Seattle Aircraft Certification Office (ACO), FAA, 1601 Lind Avenue SW., Renton, WA 98057-3356; phone: 425-917-6418; fax: 425-917-6590; email: marie.hogestad@faa.gov.

(2) For information about AMOCs for this AD, contact Jen Pei, Aerospace Engineer, Systems and Equipment Branch, ANM-130L, Los Angeles Aircraft Certification Office (ACO), FAA, 3960 Paramount Boulevard, Lakewood, CA 90712-4137; phone: 562-627-5320; fax: 562-627-5210; email: jen.pei@faa.gov.

(3) For service information identified in this AD, contact Boeing Commercial Airplanes, Attention: Data & Services Management, P.O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Issued in Renton, Washington, on June 24, 2014.
Jeffrey E. Duven,
Manager, Transport Airplane Directorate, Aircraft Certification Service.

[FR Doc. 2014-15416 Filed 6-30-14; 8:45 am]

BILLING CODE 4910-13-P